FEDERAL HOUSING FINANCE BOARD

12 CFR Chapter IX

[No. 2002-05]

RIN 3069-AB12

Technical Amendments to Federal Housing Finance Board Regulations

Correction

In rule document 02-5462 beginning on page 12841 in the issue of Wednesday, March 20, 2002, make the following corrections:

§ 915.7 [Corrected]

1. On page 12845, in the third column, in § 915.7, in amendatory instruction 49i., in the fifth line, “Bank Act” should read “Act”.

§ 940.2 [Corrected]

2. On page 12850, in the first column, in § 940.2, in amendatory instruction 98ii., in the first and fourth lines, “members” should read “members' ”.

[FR Doc. C2-5462 Filed 6-7-02; 8:45 am]

BILLING CODE 1505-01-D